COMMITTEE FOR PURCHASE FROM PEOPLE WHO ARE BLIND OR SEVERELY DISABLED

Procurement List Deletions

AGENCY: Committee for Purchase From People Who Are Blind or Severely Disabled.

ACTION: Deletions from the Procurement List.

SUMMARY: This action deletes products and services from the Procurement List previously furnished by nonprofit agencies employing persons who are blind or have other severe disabilities.

DATES: Effective Date: 2/10/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Deletions

On 11/29/2013 (78 FR 71582-71583), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

Stamp Pad Ink

NSN: 7510-01-316-7516—Refill Ink—Black 2 oz. roll-on.

NPA: Arbor Products, Inc., Houston, TX.

Contracting Activity: General Services Administration, New York, NY.

NSN: 8950-01-079-6942—Paprika, Ground.

NSN: 8950-01-254-2691—Garlic Powder.

NSN: 8950-00-NSH-0205—Pepper, Black, Ground, Restaurant Grind, 5 lb.

NPA: CDS Monarch, Webster, NY.

Contracting Activity: Defense Logistics Agency Troop Support, Philadelphia, PA.

Services

Service Types/Location: Grounds Maintenance Service, Janitorial Service, William Jefferson Clinton Birthplace Home NHS, 117 S. Hervey St., Hope, AR.

NPA: Rainbow of Challenges, Inc., Hope, AR.

Contracting Activity: National Park Service, MWR Regional Contracting, Omaha, NE.

Barry S. Lineback,
Director, Business Operations.

[FR Doc. 2014-00237 Filed 1-9-14; 8:45 am]

BILLING CODE 6353-01-P